DEPARTMENT OF HEALTH AND HUMAN SERVICES

Administration for Children and Families

Statement of Organization, Functions and Delegations of Authority

Notice is hereby given that I delegate to the Assistant Secretary for Children and Families, with authority to redelegate to the Director, Office of Refugee Resettlement, which may be further redelegated, the following authority vested in the Secretary under section 412(b)(3) of the Immigration and Nationality Act (INA) 8 U.S.C. 1522(b)(3).

(a) Authority Delegated. Authority, under section 412(b)(3) of the Immigration and Nationality Act (INA), to make arrangements for the temporary care of refugees in the United States in emergency circumstances, including the establishment of processing centers, if necessary, without regard to such provisions of law (other than the Renegotiation Act of 1951 and § 414(b) of the INA) regulating the making, performance, amendment, or modification of contracts and the expenditure of funds of the United States Government.

(b) Effect on Existing Delegations. None.

(c) This delegation is limited to providing for the temporary care, including medical screening, of approximately 1,150 Burmese and Chinese asylum applicants on Guam awaiting adjudication of their asylum claims by the Immigration and Naturalization Service.

(d) This delegation shall be exercised under the Department's existing delegation of authority and policy on regulations. This delegation of authority is effective upon date of signature.

In addition, I hereby, affirm and ratify any actions taken by the Assistant Secretary or any other official of the Administration for Children and Families that, in effect, involved the exercise of these authorities prior to the effective date of these delegations.

Dated: April 18, 2001.
Tommy G. Thompson,
Secretary.

[FR Doc. 01-10141 Filed 4-23-01; 8:45 am]

BILLING CODE 4184-01-M